NATIONAL LABOR RELATIONS BOARD

Announcement of Meeting of Board Members; Announcement No. 09-2003

March 5, 2003.

Meeting No: 09-2003.

Time of Meeting: 11 a.m.

Place of Meeting: 11th Floor, 1099 Fourteenth St., NW., Washington, DC 20570.

Status of Meeting: Closed to public observation pursuant to 5 U.S.C. Section 552b(c)(2) (internal personnel rules and practices; and 9(B)) (Disclosure would significantly frustrate implementation of a proposed Agency action * * *).

Meeting Agenda: Internal Administrative Matters.

Inquiries concerning this matter should be directed to: Lester A. Heltzer, Acting Executive Secretary, Washington, DC 20570, Telephone: (202) 273-1067.

Lester A. Heltzer,
Acting Executive Secretary.

[FR Doc. 03-5795 Filed 3-06-03; 3:14 pm]

BILLING CODE 7555-01-M